DEPARTMENT OF THE INTERIOR

Bureau of Reclamation

Quarterly Status Report of Water Service, Repayment, and Other Water-Related Contract Negotiations

AGENCY: Bureau of Reclamation, Interior.

ACTION: Notice.

SUMMARY: Notice is hereby given of proposed contractual actions that are new, modified, discontinued, or completed since the last publication of this notice on April 19, 2000. The January 21, 2000, notice should be used as a reference point to identify changes. This annual notice should be used as a point of reference to identify changes in future notices. This notice is one of a variety of means used to inform the public about proposed contractual actions for capital recovery and management of project resources and facilities. Additional Bureau of Reclamation (Reclamation) announcements of individual contract actions may be published in the Federal Register and in newspapers of general circulation in the areas determined by Reclamation to be affected by the proposed action. Announcements may be in the form of news releases, legal notices, official letters, memorandums, or other forms of written material. Meetings, workshops, and/or hearings may also be used, as appropriate, to provide local publicity. The public participation procedures do not apply to proposed contracts for sale of surplus or interim irrigation water for a term of 1 year or less. Either of the contracting parties may invite the public to observe contract proceedings. All public participation procedures will be coordinated with those involved in complying with the National Environmental Policy Act.

ADDRESSES: The identity of the approving officer and other information pertaining to a specific contract proposal may be obtained by calling or writing the appropriate regional office at the address and telephone number given for each region in the supplementary information.

FOR FURTHER INFORMATION CONTACT: Sandra L. Simons, Manager, Water Contracts and Repayment Office, Bureau of Reclamation, PO Box 25007, Denver, Colorado 80225-0007; telephone 303-445-2902.

SUPPLEMENTARY INFORMATION: Pursuant to section 226 of the Reclamation Reform Act of 1982 (96 Stat. 1273) and 43 CFR 426.20 of the rules and regulations published in 52 FR 11954, Apr. 13, 1987, Reclamation will publish notice of the proposed or amendatory contract actions for any contract for the delivery of project water for authorized uses in newspapers of general circulation in the affected area at least 60 days prior to contract execution. Pursuant to the “Final Revised Public Participation Procedures” for water resource-related contract negotiations, published in 47 FR 7763, Feb. 22, 1982, a tabulation is provided of all proposed contractual actions in each of the five Reclamation regions. Each proposed action is, or is expected to be, in some stage of the contract negotiation process in 2000. When contract negotiations are completed, and prior to execution, each proposed contract form must be approved by the Secretary of the Interior, or pursuant to delegated or redelegated authority, the Commissioner of Reclamation or one of the regional directors. In some instances, congressional review and approval of a report, water rate, or other terms and conditions of the contract may be involved.

Public participation in and receipt of comments on contract proposals will be facilitated by adherence to the following procedures:

1. Only persons authorized to act on behalf of the contracting entities may negotiate the terms and conditions of a specific contract proposal.

2. Advance notice of meetings or hearings will be furnished to those parties that have made a timely written request for such notice to the appropriate regional or project office of Reclamation.

3. Written correspondence regarding proposed contracts may be made available to the general public pursuant to the terms and procedures of the Freedom of Information Act (80 Stat. 383), as amended.

4. Written comments on a proposed contract or contract action must be submitted to the appropriate regional officials at the locations and within the time limits set forth in the advance public notices.

5. All written comments received and testimony presented at any public hearings will be reviewed and summarized by the appropriate regional office for use by the contract approving authority.

6. Copies of specific proposed contracts may be obtained from the appropriate regional director or his designated public contact as they become available for review and comment.

7. In the event modifications are made in the form of a proposed contract, the appropriate regional director shall determine whether republication of the notice and/or extension of the comment period is necessary.

Factors considered in making such a determination shall include, but are not limited to: (i) The significance of the modification, and (ii) the degree of public interest which has been expressed over the course of the negotiations. As a minimum, the regional director shall furnish revised contracts to all parties who requested the contract in response to the initial public notice.

Acronym Definitions Used Herein

(BON) Basis of Negotiation

(BCP) Boulder Canyon Project

(CAP) Central Arizona Project

(CUP) Central Utah Project

(CVP) Central Valley Project

(CRSP) Colorado River Storage Project

(D&MC) Drainage and Minor Construction

(FR) Federal Register

(IDD) Irrigation and Drainage District

(ID) Irrigation District

(M&I) Municipal and Industrial

(NEPA) National Environmental Policy Act

(O&M) Operation and Maintenance

(P-SMBP) Pick-Sloan Missouri Basin Program

(PPR) Present Perfected Right

(RRA) Reclamation Reform Act

(R&B) Rehabilitation and Betterment

(SOD) Safety of Dams

(SRPA) Small Reclamation Projects Act

(WCUA) Water Conservation and Utilization Act

(WD) Water District

Pacific Northwest Region: Bureau of Reclamation, 1150 North Curtis Road, Suite 100, Boise, Idaho 83706-1234, telephone 208-378-5346.

Completed contract action:

13. Okanogan ID, Okanogan Project, Washington: SOD contract to repay District's share of cost of dam safety repairs to Salmon Lake Dam. Contract executed July 2000.

Mid-Pacific Region: Bureau of Reclamation, 2800 Cottage Way, Sacramento, California 95825-1898, telephone 916-978-5250.

New contract actions:

38. Banta-Carbona and The West Side IDs, CVP, California: Assignment of 5,000 acre-feet of each district's water service contract to the City of Tracy. The assignment will require approval of the Districts' CVP irrigation water to M&I water.

39. Friant Water Users Authority and San Luis and Delta-Mendota Water Authority, CVP, California: Amendments to the Operation, Maintenance, and Replacement and Certain Financial and Administrative Activities' Agreements to implement certain changes to the Direct Funding provisions to comply with applicable Federal law.

40. Monterey County Water Resources Agency, SRPA, California: Proposed contract amendment to provide for deferral of installments of construction charges under a SRPA loan repayment contract.

41. Monterey Regional Water Pollution Control Agency, SRPA, California: Proposed contract amendment to provide for deferral of installments of construction charges under a SRPA loan repayment contract.

Modified contract actions:

1. Irrigation water districts, individual irrigators, M&I and miscellaneous water users, Mid-Pacific Region projects other than CVP: Temporary (interim) water service contracts for available Project water for irrigation, M&I, or fish and wildlife purposes providing up to 10,000 acre-feet of water annually for terms up to 5 years; temporary Warren Act contracts for use of Project facilities for terms up to 1 year; temporary conveyance agreements with the State of California for various purposes; long-term contracts for similar service for up to 1,000 acre-feet annually. Note. Copies of the standard forms of temporary water service contracts for the various types of service are available upon written request from the Regional Director at the address shown above.

3. Redwood Valley County WD, SRPA, California: Restructuring the repayment schedule pursuant to Public Law 100-516.

21. Horsefly, Klamath, Langell Valley, and Tulelake IDs, Klamath Project, Oregon: Repayment contract for SOD work on Clear Lake Dam.

31. Tehama-Colusa Canal Authority, CVP, California: Amendment of existing long-term O&M agreement to also include the O&M of the Red Bluff Diversion Dam and related facilities and to implement certain changes to the Direct Funding provisions of the O&M Agreement to comply with applicable Federal law.

Completed contract action:

28. Contra Costa WD, CVP, California: Amend water service contract No. I75r-3401 for the purpose of renegotiating the provisions of contract Article 12, “Water Shortage and Apportionment,” to conform to current CVP M&I water shortage policy. Contract executed February 7, 2000.

Lower Colorado Region: Bureau of Reclamation, PO Box 61470 (Nevada Highway and Park Street), Boulder City, Nevada 89006-1470, telephone 702-293-8536.

New contract actions:

61. Gila River Farms, Arizona: Amendment of SRPA contract to restructure the repayment schedule.

62. Central Arizona Water Conservation District, CAP, Arizona: Agreement for delivery of CAP excess water to the Gila River Indian Community and the San Carlos IDD in exchange for San Carlos reservoir water.

63. Lichfield Park Service Company, CAP, Arizona: Proposed assignments of 5,580 acre-feet of CAP M&I water to the Central Arizona Groundwater Replenishment District and to the cities of Avondale, Carefree, and Goodyear.

64. Shepard Water Company, Inc., Arizona: Contract for the delivery of 50 acre-feet of domestic water.

Modified contract action:

28. Arizona State Land Department, BCP, Arizona: Colorado River water delivery contract for 1,535 acre-feet per year for domestic use.

Discontinued contract action:

50. Litchfield Park Service Company, CAP, Arizona: Assignment of 1,200 acre-feet per year of CAP M&I water to the City of Scottsdale.

Completed contract actions:

35. Bureau of Land Management, BCP, Arizona: Agreement for 4,010 acre-feet per year of Colorado River water in accordance with Secretarial Reservations.

39. McMicken ID, CAP, Arizona: Assignment of 486 acre-feet of M&I water per year to the City of Peoria.

53. Arizona State Land Department, CAP, Arizona: Assignment of 1,500 acre-feet per year of CAP water from the Arizona State Land Department to the City of Mesa.

Upper Colorado Region: Bureau of Reclamation, 125 South State Street, Room 6107, Salt Lake City, Utah 84138-1102, telephone 801-524-4419.

Discontinued contract action:

4. William Nielson, Dolores Project, Colorado: Carriage contract with William Nielson to carry up to 1.5 cfs of non-project water in project facilities under the authority of the Warren Act of 1911. Contract is not being pursued.

Completed contract action:

18. Mancos Water Conservancy District, Mancos Project, Colorado: Amendment to repayment contract with the District to increase the farm unit size (for acreage limitation purposes) from 160 to 750 acres, pursuant to the WCUA of 1939. Amendatory contract signed.

Great Plains Region: Bureau of Reclamation, PO Box 36900, Federal Building, 316 North 26th Street, Billings, Montana 59107-6900, telephone 406-247-7730.

Modified contract actions:

3. Ruedi Reservoir, Fryingpan-Arkansas Project, Colorado: Second round water sales from the regulatory capacity of Ruedi Reservoir. Water service and repayment contracts for up to 17,000 acre-feet annually for M&I use; contract with Colorado Water Conservation Board and the U.S. Fish and Wildlife Service for 10,825 acre-feet for endangered fishes.

9. Angostura ID, Angostura Unit, P-SMBP, South Dakota: The District had a contract for water service which expired on December 31, 1995. An interim 3-year contract provided for a continuing water supply and the District to O&M the dam and reservoir. The proposed long-term contract would provide a continued water supply for the District and the District's continued O&M of the facility. A BON is currently being developed for a long-term contract. Another interim 3-year contract was executed on June 9, 2000, to provide for a continuing water supply and allow adequate time for completion of the Environmental Impact Statement for long-term contract renewal.

11. P-SMBP, Kansas and Nebraska: Anticipate executing the long-term water supply renewal contracts with Kansas-Bostwick, Bostwick in Nebraska, Frenchman Valley, Frenchman-Cambridge, and Almena IDs by the end of July 2000. The renewed long-term water service contracts will take effect January 1, 2001. A Notice of Availability for Draft Contracts was published on May 16, 2000. A Notice of Availability for the FEIS was published on June 19, 2000.

14. P-SMBP, Kansas: Water service contracts with Kirwin and Webster IDs in the Solomon River Basin in Kansas were extended for a period of 4 years in accordance with Public Law 104-326 enacted October 19, 1996. Water service contracts will be renewed prior to expiration.

21. Lower Marias Unit, P-SMBP, Montana: Water service contract expires in July 2000. Initiating renewal of existing contract for 25 years for up to 480 acre-feet of storage from Tiber Reservoir to irrigate 160 acres. Received approved BON from the Commissioner. Currently performing a water availability study and consulting with the Tribes regarding the Water Rights Compact. A 1-year interim contract will be issued to continue delivery of water until the necessary actions can be completed to renew a long-term contract.

22. Lower Marias Unit, P-SMBP, Montana: Initiating 25-year water service contract for up to 750 acre-feet of storage from Tiber Reservoir to irrigate 250 acres. A 1-year temporary contract has been issued to allow additional time to complete necessary actions required for the long-term contract. Another 1-year temporary has been issued to continue delivery of water until the long-term renewal process can be completed.

23. Lower Marias Unit, P-SMBP, Montana: Water service contract expired May 2000. Initiating renewal of existing long-term contract for 25 years for up to 4,570 acre-feet of storage from Tiber Reservoir to irrigate 2,285 acres. Currently performing a water availability study and consulting with the Tribes regarding the Water Rights Compact. A 1-year interim contract has been issued to continue delivery of water until the necessary actions can be completed to renew the long-term contract. Another 1-year temporary will be issued to continue delivery of water until the long-term renewal process can be completed.

25. Savage ID, P-SMBP, Montana: A second interim contract has been entered into with the District. The District is currently seeking Title Transfer. The contract is subject to renewal on an annual basis pending outcome of the title transfer process.

29. Fryingpan-Arkansas Project, Colorado: Pueblo Board of Water Works, long-term storage contract.

31. Canyon Limited Liability (Individual), P-SMBP, Boysen Unit, Wyoming: Contract for up to 16 acre-feet of supplemental irrigation water to service 4 acres.

34. Tom Green County and Improvement District No. 1, San Angelo Project, Texas: The irrigation district has requested a deferment of its 2000 construction payment. The deferment has been approved by the Secretary of the Interior. A public notice for this action was printed in the San Angelo Times. The 60-day comment period ends July 3, 2000.

42. Fryingpan-Arkansas Project, Colorado: Pueblo Board of Water Works, long-term conveyance contract.

4. Completed contract action:

13. Fort Shaw ID, Sun River Project, Montana: Contract for SOD costs for repairs to Willow Creek Dam. The proposed contract for the emergency repairs has been combined with the contract for repayment of additional SOD work as outlined in the approval memorandum dated November 17, 1999. Contract executed January 10, 2000.

Dated: July 17, 2000.
Wayne O. Deason,
Associate Director, Office of Policy.

[FR Doc. 00-18488 Filed 7-20-00; 8:45 am]

BILLING CODE 4310-MN-P